DEPARTMENT OF DEFENSE

Department of the Air Force

Notice of Intent To Grant an Exclusive Patent License

AGENCY: Air Force Materiel Command.

ACTION: Notice of intent.

SUMMARY: Pursuant to the Bayh-Dole Act and implementing regulations, the Department of the Air Force hereby gives notice of its intention to grant an exclusive patent license agreement to The University of Utah, an educational institution duly organized, validly existing, and in good standing in the State of Utah, having a place of business at 615 Arapeen Drive, Suite 310, Salt Lake City, UT 84108. Authority: 35 U.S.C. 209; 37 CFR 404.

DATES: Written objections must be filed no later than fifteen (15) calendar days after the date of publication of this Notice.

ADDRESSES: Submit written objections to the Air Force Materiel Command Law Office, AFMCLO/JAZ, 2240 B Street, Rm. 101, Wright-Patterson AFB, OH 45433-7109; Facsimile: (937) 255-3733; or Email: afmclo.jaz.tech@us.af.mil. Include Docket No. AIT-160711A-JA in the subject line of the message.

FOR FURTHER INFORMATION CONTACT: Air Force Materiel Command Law Office, AFMCLO/JAZ, 2240 B Street, Rm. 101, Wright-Patterson AFB, OH 45433-7109; Facsimile: (937) 255-3733; Email: afmclo.jaz.tech@us.af.mil.

SUPPLEMENTARY INFORMATION: The Department of the Air Force intends to grant an exclusive patent license agreement for the invention described in:

• U.S. Provisional Application No. 62/054,835, entitled, “EBOLAVIRUS PREHAIRPIN INTERMEDIATE MIMICS,” by Tracy Clinton, Michael Jacobsen, Matthew Weinstock, Brett Welch, Debra Eckert, and Michael Kay, and filed on 24 September 2014; and

• International Application No. PCT/US15/052,061, entitled, “EBOLAVIRUS PRE-HAIRPIN INTERMEDIATE MIMICS AND METHODS OF USE,” by Tracy Clinton, Michael Jacobsen, Matthew Weinstock, Brett Welch, Debra Eckert, and Michael Kay, filed on 24 September 2015, and published as International Application Publication No. WO 2016/049380.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Henry Williams,
Acting Air Force Federal Register Liaison Officer.

[FR Doc. 2016-29101 Filed 12-2-16; 8:45 am]

BILLING CODE 5001-10-P